DEPARTMENT OF TRANSPORTATION

Federal Aviation Administration

14 CFR Part 71

[Docket No. FAA-2013-0996; Airspace Docket No. 12-AAL-9]

Amendment of Class E Airspace; Kuparuk, AK

AGENCY: Federal Aviation Administration (FAA), DOT.

ACTION: Final rule.

SUMMARY: This action modifies Class E airspace at Ugnu-Kuparuk Airport, Kuparuk, AK. Controlled airspace is necessary to accommodate aircraft using the new Area Navigation (RNAV) Global Positioning System (GPS) standard instrument approach procedures at the airport. This action enhances the safety and management of aircraft operations at the airport. This action will also make an adjustment to the geographic coordinates of the airport.

DATES: Effective date, 0901 UTC, July 24, 2014. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On February 5, 2014 the FAA published in the Federal Register a notice of proposed rulemaking (NPRM) to modify controlled airspace at Ugnu-Kuparuk Airport, Kuparuk, AK (79 FR 6841). Interested parties were invited to participate in this rulemaking effort by submitting written comments on the proposal to the FAA. No comments were received.

Class E airspace designations are published in paragraph 6005, of FAA Order 7400.9X dated August 7, 2013, and effective September 15, 2013, which is incorporated by reference in 14 CFR 71.1. The Class E airspace designations listed in this document will be published subsequently in that Order.

The Rule

This action amends Title 14 Code of Federal Regulations (14 CFR) Part 71 by modifying Class E airspace extending upward from 700 feet above the surface and establishing Class E airspace extending upward from 1,200 feet above the surface at Ugnu-Kuparuk Airport, Kuparuk, AK. Class E airspace extending upward from 700 feet above the surface is modified to within a 6.5-mile radius of the airport, with a segment extending from the 6.5-mile radius of the airport to 9.5-miles east of the airport. The segment of controlled airspace west of the airport is removed as it is no longer required. A segment of Class E airspace extending upward from 1,200 feet above the surface is established within a 20-mile radius of the airport to allow aircraft to transition to the overlying airways. This action enhances the safety and management of IFR operations at the airport. Also, the geographic coordinates of the airport are updated to be in concert with the FAAs aeronautical database.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Ugnu-Kuparuk Airport, Kuparuk, AK.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 6005 Class E Airspace Areas Extending Upward From 700 Feet or More Above the Surface of the Earth.

* * * * *

AAL AK E5 Kuparuk, AK [Modified]

Ugnu-Kuparuk Airport, AK

(Lat. 70°19′50″ N., long. 149°35′53″ W.)

That airspace extending upward from 700 feet above the surface within a 6.5-mile radius of the Ugnu-Kuparuk Airport, and within 4 miles either side of the 078° bearing extending from the Ugnu-Kuparuk Airport 6.5-mile radius to 9.5 miles east of the airport; and that airspace extending upward from 1,200 feet above the surface within a 20-mile radius of the Ugnu-Kuparuk Airport; excluding that airspace that extends beyond 12 miles of the shoreline.

Issued in Seattle, Washington, on April 28, 2014.
Clark Desing,
Manager, Operations Support Group, Western Service Center.

[FR Doc. 2014-10867 Filed 5-12-14; 8:45 am]

BILLING CODE 4910-13-P